DEPARTMENT OF COMMERCE

National Oceanic and Atmospheric Administration

RIN 0648-XE485

Notice of Availability of a Draft Programmatic Environmental Assessment for Fisheries and Ecosystem Research Conducted and Funded by the National Marine Fisheries Service, Southeast Fisheries Science Center

AGENCY: National Marine Fisheries Service (NMFS), National Oceanic and Atmospheric Administration (NOAA), Commerce.

ACTION: Notice of availability of a Draft Programmatic Environmental Assessment; request for comments.

SUMMARY: NMFS announces the availability of the “Draft Programmatic Environmental Assessment (DPEA) for Fisheries and Ecosystem Research Conducted and Funded by the Southeast Fisheries Science Center (SEFSC).” Publication of this notice begins the official public comment period for this DPEA. The purpose of the DPEA is to evaluate, in compliance with the National Environmental Policy Act (NEPA), the potential direct, indirect, and cumulative impacts of conducting and funding fisheries and ecosystem research in the southeastern coast of the U.S., the Gulf of Mexico, and the Caribbean Sea marine waters of Puerto Rico and the U.S. Virgin Islands.

DATES: Comments and information must be received no later than May 20, 2016.

ADDRESSES: Comments on the DPEA should be addressed to: NOAA/NMFS/SEFSC/Director's Office, 75 Virginia Beach Drive, Key Biscayne, FL 33149. The mailbox address for providing email comments is SEFSC.DPEA@noaa.gov. NMFS is not responsible for email comments sent to addresses other than the one provided here. Comments sent via email, including all attachments, must not exceed a 10-megabyte file size. A copy of the DPEA may be obtained by writing to the address specified above, telephoning the contact listed below (see FOR FURTHER INFORMATION CONTACT), or visiting the internet at: http://www.sefsc.noaa.gov/dpea.html

Documents cited in this notice may also be viewed, by appointment, during regular business hours, at the aforementioned address.

FOR FURTHER INFORMATION CONTACT: Dr. Melissa Cook, SEFSC, (228) 762-4591.

SUPPLEMENTARY INFORMATION: The Southeast Fisheries Science Center (SEFSC) is the research arm of National Marine Fisheries Service (NMFS) in the Southeast region of the U.S. The SEFSC conducts research and provides scientific advice to manage fisheries and conserve protected species in marine and estuarine habitats of the Atlantic Ocean along the southeastern coast of the U.S., the Gulf of Mexico, and the Caribbean Sea, including marine waters offshore from Puerto Rico and the U.S. Virgin Islands. Three regional Fishery Management Councils rely in part on data collected by the SEFSC. The South Atlantic Fishery Management Council (SAFMC), the Gulf of Mexico Fishery Management Council (GMFMC), and the Caribbean Fishery Management Council (CFMC) rely primarily on the SEFSC for fisheries independent research data for development of stock assessment reports and other management purposes. The SEFSC also provides research data and works cooperatively with numerous other domestic and international fisheries management organizations.

NMFS has prepared the DPEA under NEPA to evaluate several alternatives for conducting and funding fisheries and ecosystem research activities as the primary Federal action. Additionally in the DPEA, NMFS evaluates a related action—also called a “connected action” under 40 CFR 1508.25 of the Council on Environmental Quality's regulations for implementing the procedural provisions of NEPA (42 U.S.C. 4321 et seq.)—which is the proposed promulgation of regulations and authorization of the take of marine mammals incidental to the fisheries research under the Marine Mammal Protection Act (MMPA). Additionally, because the proposed research activities occur in areas inhabited by species of marine mammals, birds, sea turtles, and fish listed under the Endangered Species Act (ESA) as threatened or endangered, this DPEA evaluates activities that could result in unintentional takes of ESA-listed marine species.

The following four alternatives are currently evaluated in the DPEA:

• No-Action/Status Quo Alternative—Conduct Federal Fisheries and Ecosystem Research with Scope and Protocols Similar to Past Effort

• Preferred Alternative—Conduct Federal Fisheries and Ecosystem Research (New Suite of Research) with Mitigation for MMPA and ESA Compliance

• Modified Research Alternative— Conduct Federal Fisheries and Ecosystem Research (New Suite of Research) with Additional Mitigation

• No Research Alternative—No Fieldwork for Federal Fisheries and Ecosystem Research Conducted or Funded by SEFSC

The first three alternatives include a program of fisheries and ecosystem research projects conducted or funded by the SEFSC as the primary Federal action. Because this primary action is connected to a secondary Federal action (also called a connected action under NEPA), to consider authorizing incidental take of marine mammals under the MMPA, NMFS must identify as part of this evaluation “(t)he means of effecting the least practicable adverse impact on the species or stock and its habitat.” (Section 101(a)(5)(A) of the MMPA [16 U.S.C. 1361 et seq.]). NMFS must therefore identify and evaluate a reasonable range of mitigation measures to minimize impacts to protected species that occur in SEFSC research areas. These mitigation measures are considered as part of the identified alternatives in order to evaluate their effectiveness to minimize potential adverse environmental impacts. The three action alternatives also include mitigation measures intended to minimize potentially adverse interactions with other protected species that occur within the action area. Protected species include all marine mammals, which are covered under the MMPA, all species listed under the ESA, and bird species protected under the Migratory Bird Treaty Act.

NMFS is also evaluating a second type of no-action alternative that considers no Federal funding for field fisheries and ecosystem research activities. This is called the No Research Alternative to distinguish it from the No-Action/Status Quo Alternative. The No-Action/Status Quo Alternative will be used as the baseline to compare all of the other alternatives. Potential direct and indirect effects on the environment are evaluated under each alternative in the DPEA. The environmental effects on the following resources are considered: Physical environment, special resource areas, fish, marine mammals, birds, sea turtles, invertebrates, and the social and economic environment. Cumulative effects of external actions and the contribution of fisheries research activities to the overall cumulative impact on the aforementioned resources is also evaluated in the DPEA for the three main geographic regions in which SEFSC surveys are conducted. NMFS requests comments on the DPEA for Fisheries and Ecosystem Research Conducted and Funded by the National Marine Fisheries Service, Southeast Fisheries Science Center. Please include, with your comments, any supporting data or literature citations that may be informative in substantiating your comment.

Dated: April 15, 2016.
Bonnie Ponwith,
Director, Southeast Fisheries Science Center, National Marine Fisheries Service.

[FR Doc. 2016-09154 Filed 4-19-16; 8:45 am]

BILLING CODE 3510-22-P